DEPARTMENT OF ENERGY

Federal Energy Regulatory Commission

[Docket No. AD09-4-000]

Integrating Renewable Resources Into the Wholesale Electric Grid; Notice of Technical Conference

February 5, 2009.

Take notice that the Federal Energy Regulatory Commission will hold a technical conference on March 2, 2009, from 9 a.m. to 5 p.m. (EST) in the Commission Meeting Room at the Federal Energy Regulatory Commission, 888 First Street, NE., Washington, DC 20426. The conference will be open for the public to attend and advance registration is not required. Members of the Commission will attend and participate in the conference.

The purpose of this conference is to seek information on the challenges posed by integration of large amounts of variable renewable generation into wholesale markets and grids as well as on innovative solutions to these challenges. The Commission previously dealt with the technical differences of wind power from other forms of generation in 2005, when the Commission issued Order No. 661.¹

¹ Interconnection for Wind Energy, Order No. 661, FERC Stats. & Regs. ¶ 31,186, order on reh'g, Order No. 661-A, FERC Stats. & Regs. ¶ 31,198 (2005).

The Commission anticipates significant additions of wind generation as well as generation from other variable renewable sources. This growth in variable renewable generation could create new challenges for grid and market operators with regard to costs and reliability. The agenda for this conference will be published at a later time.

Those wishing to participate as a panelist should submit a request form located at https://www.ferc.gov/whats-new/registration/weg-03-02-09-speaker-form.asp by the close of business on Friday, February 13, 2009.

A free webcast of this event is available through http://www.ferc.gov. Anyone with Internet access who desires to view this event can do so by navigating to the Calendar of Events at http://www.ferc.gov and locating this event in the Calendar. The event will contain a link to its webcast. The Capitol Connection provides technical support for the free webcasts. It also offers access to this event via television in the Washington, DC area and via phone-bridge for a fee. If you have any questions, visit http://www.CapitolConnection.org or contact Danelle Perkowski or David Reininger at (703) 993-3100.

Transcripts of the conference will be available immediately for a fee from Ace Reporting Company (202-347-3700 or 1-800-336-6646). They will be available for free on the Commission's eLibrary system and on the Calendar of Events approximately one week after the conference.

Commission conferences are accessible under section 508 of the Rehabilitation Act of 1973. For accessibility accommodations, please send an e-mail to accessibility@ferc.gov or call toll free 1-866-208-3372 (voice) or (202) 208-1659 (TTY), or send a FAX to 202-208-2106 with the required accommodations.

For more information about this conference, please contact: Sarah McKinley at sarah.mckinley@ferc.gov, (202) 502-8368.

Kimberly D. Bose,
Secretary.

[FR Doc. E9-2965 Filed 2-11-09; 8:45 am]

BILLING CODE 6717-01-P